RAILROAD RETIREMENT BOARD

Agency Forms Submitted for OMB Review, Request for Comments

Summary: In accordance with the Paperwork Reduction Act of 1995 (44 U.S.C. Chapter 35), the Railroad Retirement Board (RRB) is forwarding two (2) Information Collection Requests (ICR) to the Office of Information and Regulatory Affairs (OIRA), Office of Management and Budget (OMB). Our ICR describes the information we seek to collect from the public. Review and approval by OIRA ensures that we impose appropriate paperwork burdens.

The RRB invites comments on the proposed collections of information to determine (1) The practical utility of the collections; (2) the accuracy of the estimated burden of the collections; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

1. Title and Purpose of Information Collection: Employer's Quarterly Report of Contributions Under the RUIA, RRB Form DC-1; OMB 3220-0012.

Under Section 8 of the Railroad Unemployment Insurance Act (RUIA), as amended by the Railroad Unemployment Improvement Act of 1988 (Pub. L. 100-647), the amount of each employer's contribution is determined by the RRB, primarily on the basis of RUIA benefit payments made to the employees of that employer. These experienced based contributions, take into account the frequency, volume and duration of RUIA benefits, both unemployment and sickness, attributable to a railroad's employees. Each employer's contribution rate includes a component for administrative expenses and a component to cover costs shared by all employers. The regulations prescribing the manner and conditions for remitting the contributions and for adjusting overpayments or underpayments of contributions are contained in 20 CFR 345.

RRB Form DC-1, Employer's Quarterly Report of Contributions Under the Railroad Unemployment Insurance Act, is currently utilized by the RRB for the reporting and remitting of quarterly contributions by railroad employers. The RRB utilizes a manual version of Form DC-1 and also provides railroad employers with the option of reporting the required information and remitting their quarterly contributions via an Internet equivalent version Form DC-1.

One response is requested quarterly of each respondent and completion is mandatory. The estimated completion for the manual and Internet version of Form DC-1 is estimated at 25 minutes.

Previous Requests for Comments: The RRB has already published the initial 60-day notice (74 FR 3115 on January 16, 2009) required by 44 U.S.C. 3506(c)(2). That request elicited no comments.

Information Collection Request (ICR)

Title: Employer's Quarterly Report of Contributions Under the RUIA.

Form(s) submitted: DC-1.

OMB Control Number: 3220-0012.

Expiration date of current OMB clearance: 3/31/2009.

Type of request: Extension without change of a currently approved collection.

Affected Public: Business or other for-profit.

Estimated annual number of respondents: 540.

Total annual responses: 2,160.

Total annual reporting hours: 900.

Abstract: Railroad employers are required to make contributions to the Railroad Unemployment Insurance fund quarterly or annually equal to a percentage of the creditable compensation paid to each employee. The information furnished on the report accompanying the remittance is used to determine correctness of the amount paid.

Changes Proposed: The RRB proposes no changes to Form DC-1.

2. Title and Purpose of Information Collection: Applicant Background Survey: RRB Form EEO-44, OMB 3220-0201.

This information collection is needed to comply with Federal laws and regulations. 5 U.S.C. Chapter 72 section 7201 establishes an anti-discrimination policy. Title VII of the Civil Rights Act of 1964, section 2000e-8 [section 709], requires agencies to make and keep relevant records to identify unlawful employment practices. 29 CFR section 1602 allows agencies to collect data to determine if there is any adverse impact on employment practices such as recruitment or selection.

The RRB's Equal Employment Office collects data to assess the impact of the agency's recruitment processes on the hiring of minorities, women and people with disabilities. To obtain the information necessary to conduct a proper assessment, the RRB utilizes Form EEO-44, Applicant Background Survey, which collects information about the racial or ethnic identity, gender and disability of applicants for RRB jobs from outside of the Federal government.

Form EEO-44 is only viewed by RRB Human Resources personnel and Equal Employment Opportunity officials. Summarized data from all external applicants for a position is used to identify hiring barriers which limit or tends to limit employment opportunities for members of a particular sex, race, or ethnic background, or based on an individual's disability status.

The EEO-44 contains a “Plain English” assurance that the information will be kept highly confidential and only shared with authorized RRB officials. This assurance specifically states that the information obtained is kept as a running tally which cannot be disaggregated into individual names, that information from the form is not entered into the RRB's personnel database, that the information is not provided to selecting officials or any others who can affect the selection, or to the public, and that the form is destroyed after the position is filled. The information maintained does not include the applicant's name or other identifier.

Completion of one form EEO-44 is requested of each respondent and completion is voluntary. The RRB estimates the completion time Form EEO-44 at 5 minutes.

Previous Requests for Comments: The RRB has already published the initial 60-day notice (74 FR 3115 on January 16, 2008) required by 44 U.S.C. 3506(c)(2). That request elicited no comments.

Information Collection Request (ICR)

Title: Applicant Background Survey.

Form(s) submitted: EEO-44.

OMB Control Number: 3220-0201.

Expiration date of current OMB clearance: 3/31/2009.

Type of request: Extension without change of a currently approved collection.

Affected Public: Individuals or Households, Business or other for-profit.

Estimated annual number of respondents: 800.

Total annual responses: 800.

Total annual reporting hours: 67.

Abstract: To meet reporting requirements of Equal Employment Opportunity Commission (EEO) Management Directive 715, the RRB collects information needed to properly assess the impact of its recruitment process on the hiring of minorities, women, and people with disabilities.

Changes Proposed: The RRB proposes no changes to Form EEO-44.

Additional Information or Comments: Copies of the form and supporting documents can be obtained from Charles Mierzwa, the agency clearance officer at (312-751-3363) or Charles.Mierzwa@rrb.gov.

Comments regarding the information collection should be addressed to Ronald J. Hodapp, Railroad Retirement Board, 844 North Rush Street, Chicago, Illinois, 60611-2092 or Ronald.Hodapp@rrb.gov and to the OMB Desk Officer for the RRB, at the Office of Management and Budget, Room 10230, New Executive Office Building, Washington, DC 20503.

Charles Mierzwa,
Clearance Officer.

[FR Doc. E9-6223 Filed 3-20-09; 8:45 am]

BILLING CODE 7905-01-P